DEPARTMENT OF HEALTH AND HUMAN SERVICES

Agency for Toxic Substances and Disease Registry

Statement of Organization, Functions, and Delegations of Authority

Part J (Agency for Toxic Substances and Disease Registry) of the Statement of Organization, Functions, and Delegations of Authority of the Department of Health and Human Services (50 FR 25129-25130, dated June 17, 1985, as amended most recently at 75 FR 70276, dated November 17, 2010) is amended to reflect the reorganization of the Agency for Toxic Substances and Disease Registry (ATSDR).

Section T-B, Organization and Functions, is hereby amended as follows:

Delete in their entirety the titles and functional statements for the Division of Regional Operations (JAAB), Division of Health Assessment and Consultation (JAAC), Division of Health Studies (JAAE), and the Division of Toxicology and Environmental Medicine (JAAG), and insert the following:

Division of Community Health Investigations (JAAM). (1) Conducts public health assessments, health consultations, and other related public health activities to determine the health implications of releases or threatened releases of toxic substances into the environment; in particular, such activities are conducted for Superfund and Resource Conservation and Recovery Act (RCRA) sites, petition requests, and other sites or instances where communities have been or may have been exposed to toxic substances in the environment; (2) plans, manages, directs, and conducts the regional operations of the Agency; (3) provides liaison, technical advice, and consultation to the Environmental Protection Agency, other federal, tribal, state, and local agencies, private organizations, community groups, and individuals on eliminating or mitigating public health problems resulting from the release of hazardous substances into the environment; (4) conducts and evaluates exposure pathways analyses and other exposure screening analyses to identify impacted communities, to include exposure investigations (biologic sampling, personal monitoring, etc.), exposure-dose reconstruction, and related environmental assessments, as appropriate; (5) identifies appropriate interventions for impacted communities to prevent exposures and/or adverse health effects; (6) issues public health advisories when a release or threatened release of a toxic substance poses an imminent health hazard; (7) plans, prepares, and executes appropriate community involvement and health educational strategies/activities/programs for communities affected or potentially affected by toxic substances released into the environment; (8) manages the ATSDR-mandated program for conducting site-specific activities at petitioned sites; (9) manages and implements ATSDR's Site-Specific Cooperative Agreement Program; (10) coordinates the Agency's environmental public health training program; (11) provides technical support and field presence for routine emergency and disaster response as appropriate; and (12) engages with regional partners to accomplish special programs that promote environmental health (i.e., brownfields/land reuse activities and environmental justice).

Office of the Director (JAAM1). (1) Provides overall leadership in directing, coordinating, evaluating, and managing all programmatic and administrative operations of the division; (2) develops programmatic goals and objectives and provides leadership, policy formation, and guidance in program planning, development, and evaluation; (3) coordinates division activities with other components of ATSDR and other federal, tribal, state and local agencies; (4) provides overall leadership and management of division activities pertaining to federal facilities response, petition coordination, special environmental public health programs (i.e., brownfields/land reuse), and community involvement/health education; (5) ensures regional offices have support for timely responses to regional partners; (6) ensures support for regional emergency response activities; (7) works with the Washington, D.C. regional office to ensure coordination with the Environmental Protection Agency at the national level; (8) assesses the need and develops training for public health professionals conducting site-specific activities, and coordinates the delivery of these courses for the training of federal staff, American Indian/Alaska Native tribal members, and state partners; (9) plans, directs, coordinates, and manages ATSDR's Site-Specific Cooperative Agreement Program; (10) reviews and evaluates the scientific accuracy and clarity of public health assessments, health consultations, and community outreach and health education materials; (11) ensures the quality and consistency in the science and format used in the development of divisional products and materials; (12) develops outreach messages following the procedures and policies of the Agency's Office of Communication; (13) provides timely responses to policy activities (i.e., Freedom of Information Act (FOIA), congressional inquiries, budget formulation, and briefings); and (14) develops measures of divisional productivity and reports to the Agency and CDC director.

Eastern Branch (JAAMB). The branch serves regions 1-3 by performing the following: (1) Manages a wide range of public health assessment requests, including private-sector petitions and regional-led activities, that are assigned based on branch staff expertise; (2) monitors the progress of work plan activities, and reviews and evaluates the scientific accuracy and clarity of public health assessments, health consultations, and related materials; (3) plans, directs, coordinates, evaluates, conducts, and manages operations and activities at National Priorities List sites, federal sites, and RCRA sites; (4) issues public health assessments, health consultations, public health advisories, and provides technical assistance; (5) establishes working relationships with regional partners to ensure hazardous chemical exposures are addressed regionally; (6) operates regional offices providing liaison, technical advice, and consultation to the Environmental Protection Agency, other federal, tribal, state, and local agencies, private organizations, community groups, and individuals on eliminating or mitigating public health problems resulting from the release of hazardous substances into the environment; (7) ensures regional offices have adequate support to provide timely responses to external partners; (8) ensures regional offices have continued support for emergency response and removal activities; (9) participates in regional initiatives to ensure prevention and reduction of hazardous waste exposures; (10) plans, coordinates, implements, and evaluates ATSDR's health promotion, health education, and community involvement site-specific programs; (11) communicates the agency's roles, responsibilities, and public health information to public and professional audiences to mitigate health effects from potential and actual exposures to toxic substances; (12) advocates for the public health needs of communities affected by environmental hazards; (13) links members of the public in communities affected by hazardous waste with technical and scientific staff and resources, where appropriate; (14) collaborates with other ATSDR program areas and partners to ensure cultural awareness and respect are observed and practiced in all activities that involve communities, American Indian/Alaska Native tribes, tribal governments and tribal organizations; (15) develops programmatic goals and objectives, and contributes to policy formation and guidance in program planning, development and evaluation; and (16) provides health physics expertise for all division public health assessment activities and serves as the division's liaison to radiation disaster response teams.

Central Branch (JAAMC). The branch serves regions 4-6 by performing the following: (1) Manages a wide range of public health assessment requests, including private-sector petitions and regional-led activities, that are assigned based on branch staff expertise; (2) monitors the progress of work plan activities, and reviews and evaluates the scientific accuracy and clarity of public health assessments, health consultations, and related materials; (3) plans, directs, coordinates, evaluates, conducts, and manages operations and activities at National Priorities List sites, federal sites, and RCRA sites; (4) issues public health assessments, health consultations, public health advisories, and provides technical assistance; (5) establishes working relationships with regional partners to ensure hazardous chemical exposures are addressed regionally; (6) operates regional offices providing liaison, technical advice, and consultation to the Environmental Protection Agency, other federal, tribal, state, and local agencies, private organizations, community groups, and individuals on eliminating or mitigating public health problems resulting from the release of hazardous substances into the environment; (7) ensures regional offices have adequate support to provide timely responses to external partners; (8) ensures regional offices have continued support for emergency response and removal activities; (9) participates in regional initiatives to ensure prevention and reduction of hazardous waste exposures; (10) plans, coordinates, implements, and evaluates ATSDR's health promotion, health education, and community involvement site-specific programs; (11) communicates the agency's roles, responsibilities, and public health information to public and professional audiences to mitigate health effects from potential and actual exposures to toxic substances; (12) advocates for the public health needs of communities affected by environmental hazards; (13) links members of the public in communities affected by hazardous waste with technical and scientific staff and resources, where appropriate; (14) collaborates with other ATSDR program areas and partners to ensure cultural awareness and respect are observed and practiced in all activities that involve communities, American Indian/Alaska Native tribes, tribal governments and tribal organizations; (15) develops programmatic goals and objectives, and contributes to policy formation and guidance in program planning, development and evaluation; and (16) provides health physics expertise for all division public health assessment activities and serves as the division's liaison to radiation disaster response teams.

Western Branch (JAAMD). The branch serves regions 7-10 by performing the following: (1) Manages a wide range of public health assessment requests, including private-sector petitions and regional-led activities, that are assigned based on branch staff expertise; (2) monitors the progress of work plan activities, and reviews and evaluates the scientific accuracy and clarity of public health assessments, health consultations, and related materials; (3) plans, directs, coordinates, evaluates, conducts, and manages operations and activities at National Priorities List sites, federal sites, and RCRA sites; (4) issues public health assessments, health consultations, public health advisories, and provides technical assistance; (5) establishes working relationships with regional partners to ensure hazardous chemical exposures are addressed regionally; (6) operates regional offices providing liaison, technical advice, and consultation to the Environmental Protection Agency, other federal, tribal, state, and local agencies, private organizations, community groups, and individuals on eliminating or mitigating public health problems resulting from the release of hazardous substances into the environment; (7) ensures regional offices have adequate support to provide timely responses to external partners; (8) ensures regional offices have continued support for emergency response and removal activities; (9) participates in regional initiatives to ensure prevention and reduction of hazardous waste exposures; (10) plans, coordinates, implements, and evaluates ATSDR's health promotion, health education, and community involvement site-specific programs; (11) communicates the agency's roles, responsibilities, and public health information to public and professional audiences to mitigate health effects from potential and actual exposures to toxic substances; (12) advocates for the public health needs of communities affected by environmental hazards; (13) links members of the public in communities affected by hazardous waste with technical and scientific staff and resources, where appropriate; (14) collaborates with other ATSDR program areas and partners to ensure cultural awareness and respect are observed and practiced in all activities that involve communities, American Indian/Alaska Native tribes, tribal governments and tribal organizations; (15) develops programmatic goals and objectives, and contributes to policy formation and guidance in program planning, development and evaluation; and (16) provides health physics expertise for all division public health assessment activities and serves as the division's liaison to radiation disaster response teams.

Science Support Branch (JAAME). (1) Serves as the lead branch for planning, directing, coordinating, evaluating, conducting, and managing the division's operations and activities for exposure investigations, exposure-dose reconstruction, and modeling; (2) coordinates within and across branch and divisional units to provide technical expertise for a wide-range of activities that support the division and agency's public health mandates and priorities; and (3) provides modeling and other analytic expertise to analyze the impact of exposures.

Division of Toxicology and Human Health Sciences (JAAN). The Division of Toxicology and Human Health Sciences develops and coordinates a research agenda and program that integrates epidemiology and environmental medicine with toxicology. This includes investigating the relationships between exposures to hazardous substances and adverse health effects. In order to do this, the division: (1) coordinates all activities associated with human health studies, surveillance activities, and registries; (2) provides epidemiologic, toxicologic, geospatial, and biostatistical assistance and consultation to site-specific activities across ATSDR including chemical-specific consultations as needed; (3) coordinates all activities associated with toxicological profiles including associated research; (4) develops and applies science-based health education tools, methods and strategies to deliver messages, education, and training; and (5) provides technical expertise and site specific support in addressing the health issues presented by emergency or acute release events and threatened releases of hazardous materials.

Office of the Director (JAAN1). (1) Plans, directs, coordinates, and manages the operations of the division; (2) provides leadership in the development of goals and objectives, policy formulation, and program planning, development and evaluation; (3) facilitates the science, including analytic support, of the division and undertakes special scientific activities; (4) coordinates division activities with other components of ATSDR, CDC, and other federal agencies; (5) ensures the quality and consistency in the science and format used in the development of divisional products and materials; (6) develops outreach messages following the procedures and policies of the Agency's Office of Communication; (7) provides timely responses to policy activities (i.e., FOIA inquiries, congressional inquiries, budget formulation, and briefings); and (8) develops measures of divisional productivity and reports to the Agency and CDC director.

Geospatial Research, Analysis and Services Program (JAAN12). (1) Researches and analyzes geospatial trends and patterns relevant to environmental health and emergency preparedness and response; (2) promotes and integrates the use of geospatial science and systems with data and technology; and (3) collaborates with scientists at CDC/ATSDR and public health partners on geospatial research and service needs.

Emergency Response Program (JAAN13). (1) Provides technical expertise and site-specific support in addressing the health issues presented by emergency or acute release events and threatened releases of hazardous materials; (2) provides remote and on-site support during chemical emergencies to federal, tribal, state, and local agencies, and the general public, with emphasis on preparing for and preventing emergency events; (3) develops information resources and guidance for first responders and health care providers for use in responding to unplanned releases and spills; and (4) works with the National Response Program and CDC guidelines to collaborate with other federal, tribal, state, and local agencies during emergency response situations.

Environmental Epidemiology Branch (JAANB). (1) Provides scientific expertise in environmental epidemiology; (2) designs and conducts human health, including epidemiologic, studies to evaluate the association between exposure to hazardous substances and adverse health effects; (3) provides expert medical and environmental epidemiologic consultation; and (4) implements extramural research programs that involve human health investigations.

Environmental Health Surveillance Branch (JAANC). (1) Provides scientific expertise in surveillance of hazardous substances; (2) designs and conducts surveillance and registry programs to evaluate the adverse health effects on persons exposed to hazardous substances; (3) conducts health follow-up activities resulting from surveillance and registries; and (4) implements extramural research programs that involve surveillance and registries.

Environmental Medicine Branch (JAAND). (1) Provides scientific expertise for environmental medicine and health education; (2) develops, disseminates, and applies science-based health education strategies, services, and tools to deliver key messages, education, and training to state and other public health partners; and (3) provides leadership in development, implementation, and evaluation of internal and external professional health education and environmental medicine activities.

Environmental Toxicology Branch (JAANE). (1) Provides scientific expertise for the development and dissemination of toxicological information; (2) develops and disseminates toxicological profiles; (3) develops, implements, and coordinates a program of research designed to identify priority data needs and associated health effects for various hazardous substances; (4) coordinates toxicological information and research activities with the Environmental Protection Agency, the National Toxicology Program, the Interagency Testing Committee, other appropriate federal, tribal, state, and local programs and other public and private concerns; and (5) develops and applies, through consultations, a program of computational toxicology research to enhance traditionally based approaches using modeling tools and techniques.

Dated: October 29, 2012.
Sherri A. Berger,
Chief Operating Officer, Centers for Disease Control and Prevention.

[FR Doc. 2012-27533 Filed 11-14-12; 8:45 am]

BILLING CODE 4160-70-M